DEPARTMENT OF DEFENSE

Office of the Secretary

TRICARE; Notice of TRICARE Plan Program Changes for Calendar Year 2023

AGENCY: Office of the Secretary of Defense, Department of Defense (DoD).

ACTION: TRICARE plan program changes for calendar year 2023.

SUMMARY: This notice provides information regarding TRICARE plan program changes for Calendar Year 2023.

DATES: TRICARE health plan information in this notice is valid for services during calendar year (CY) 2023 (January 1, 2023-December 31, 2023).

ADDRESSES: Defense Health Agency, TRICARE Health Plan Division, 7700 Arlington Boulevard, Suite 5101, Falls Church, Virginia 22042-5101.

FOR FURTHER INFORMATION CONTACT: Ms. Debra Fisher, (703) 275-6224.

SUPPLEMENTARY INFORMATION: A final rule published in the Federal Register (FR) on February 15, 2019 (84 FR 4326-4333) established the requirement for the Director, Defense Health Agency (DHA), to provide public notice to TRICARE program beneficiaries with a summary of changes to the TRICARE program each calendar year in connection with the annual open season enrollment period.

Announcement of Open Season

Open Season is an annual period when beneficiaries can enroll in or make changes to their healthcare, dental and vision coverage for the next calendar year.

The TRICARE Open Season runs from November 14, 2022, through December 13, 2022, during which time beneficiaries can enroll in or change their TRICARE Prime or TRICARE Select plan.

The Federal Employee Dental and Vision Insurance Program (FEDVIP) Open Season runs from November 14, 2022, through December 12, 2022. The U.S. Office of Personnel Management offers FEDVIP enrollment to qualified beneficiaries of the Military Health System, including TRICARE for Life beneficiaries. During the FEDVIP Open Season beneficiaries may enroll in or make changes to their dental and vision plans.

Any changes beneficiaries make during open season will take effect on January 1, 2023. If a beneficiary remains eligible and does not make any changes during Open Season, then their coverage will stay the same for 2023.

Annual Announcements

The following TRICARE program features are subject to a year-to-year determination and are announced each year prior to the annual TRICARE Open Season.

Urgent Care Visits: Except for most Active Duty Service members, there continues to be no limit to the number of urgent care visits a TRICARE Prime enrollee may receive without a referral for Plan Year 2023. They may receive urgent care from any TRICARE-authorized urgent care center (UCC), either network or non-network. They may also receive urgent care from any TRICARE network provider. If the TRICARE Prime enrollee seeks care from a non-network TRICARE authorized provider (outside of a TRICARE-authorized UCC), the usual TRICARE Prime Point of Service deductible and cost-shares shall apply. Beneficiaries may also call the Military Health System Nurse Advice Line (NAL) for health care guidance from a specially trained registered nurse. The NAL is available 24/7 to all TRICARE beneficiaries in the United States (U.S.) except those enrolled in the US Family Health Plan. Beneficiaries who live overseas can call the NAL for health care advice when traveling in the U.S., but must coordinate care with their Overseas Regional Call Center. For additional information, call the servicing TRICARE contractor or visit https://www.tricare.mil/ContactUs/CallUs/NAL.

Prime Service Area Changes: Prime Service Areas (PSAs) are geographic areas around military Medical Treatment Facilities and Base Realignment and Closure sites. PSAs ensure medical readiness of active duty members by adding to the capability and capacity of military hospitals and clinics. There is no change to geographic locations where TRICARE Prime will be offered.

Coronavirus Disease 2023 (COVID-19) Continued Response: A temporary waiver to the referral requirement remains in effect for TRICARE Prime enrollees, not including Active Duty Service Members (ADSMs), so they may receive COVID-19 vaccines, a clinical preventive service, from any TRICARE Basic (medical) program authorized non-network provider without incurring POS charges where applicable. This waiver will expire when the President of the United States declares the national emergency is terminated. As part of the COVID-19 response, the following temporary changes for care and treatment continue to be in effect: temporary coverage of the treatment use of investigational drugs under expanded access when for the treatment of COVID-19; temporary coverage of National Institute for Allergy and Infectious Disease (NIAID) sponsored clinical trials when for the prevention or treatment of COVID-19 or its associated sequalae; temporary interstate and international licensing, which allows the temporary waiver of licensing requirements for providers practicing (both in person and via telehealth) in a state or host-nation in which they are not licensed, when licensed in another state or nation and such practice is permitted by state, federal, or host-nation law; and temporary coverage of temporary facilities registered with Medicare's Hospitals Without Walls initiative. These temporary changes remain in effect until the President of the United States issues a declaration that the Public Health Emergency has terminated, unless terminated, extended, or otherwise modified in a final rule published in the Federal Register.

What's New

The following changes or improvements to the TRICARE program benefits apply to calendar year 2023 (although, some changes were implemented in 2022):

Telephonic Office Visit: Introduced during the COVID-19 pandemic, the telephonic office visit (audio-only telehealth) benefit was made permanent for all TRICARE enrollees effective July 1, 2022. A telephonic office visit is a TRICARE-covered service provided via a telephone call between an established TRICARE patient and his or her TRICARE-authorized provider. TRICARE can cover telephonic office visits for otherwise covered medically necessary and appropriate care that does not require face-to-face, hands-on treatment or visual evaluation. However, not all TRICARE covered services are appropriate for telephonic office visits. For example, evaluation of a skin lesion would require visual evaluation that cannot be completed via a telephone-only visit. Similarly, the services rendered through an intensive outpatient program would likewise be inappropriate to administer via telephone only. Another example, removal of a cast, would require hands-on treatment and would not be suitable for a telephonic visit.

Female Contraception and Sterilization: Active Duty service Members and TRICARE health plan enrollees enjoy access to a comprehensive range of contraceptive care under the TRICARE Program. Effective July 28, 2022, DHA eliminated cost-shares and copayments for reversible medical contraceptives as preventive services under TRICARE Prime and TRICARE Select. Reversible medical contraceptives include the FDA-approved implant, shot, and intrauterine devices. Beneficiaries can request refunds from their servicing TRICARE contractor on or after October 17, 2022, for any cost-share or copayment paid for these services performed on or after the effective date of July 28, 2022. DHA cannot eliminate cost-shares and/or copayments for daily use prescription birth control pills because TRICARE Pharmacy Program cost-sharing is mandated by law.

However, effective January 1, 2023, TRICARE Prime and Select beneficiaries seeking female surgical sterilization services (i.e., surgical procedure where the fallopian tubes are cut, tied, or blocked to permanently prevent pregnancy) will also enjoy cost-share and copayment free access to these preventive services when performed by a TRICARE network provider.

Comprehensive Autism Care Demonstration

The Comprehensive Autism Care Demonstration (ACD) for Applied Behavior Analysis (ABA) services for TRICARE beneficiaries diagnosed with Autism Spectrum Disorder (ASD) has been extended through December 31, 2028. The ACD renders clinically necessary and appropriate ABA services for the core symptoms of ASD.

Planned Changes

Effective January 1, 2023, the annual premium increase for Continued Health Care Benefit Program (CHCBP) will transition from a Fiscal Year basis (October 1 each year) to a Calendar Year basis (January 1 each year). This change aligns CHCBP with the premium-based TRICARE health plans for uniformity in premium collections and reduces complexity for beneficiaries.

For more information, visit tricare.mil/changes or call the servicing TRICARE contractor.

Appendix A

Certain TRICARE enrollee out-of-pocket costs (enrollment fees, premiums, catastrophic caps, deductibles, and copayments) are adjusted annually by Federal law and regulations based on the annual Cost of Living Adjustment (COLA) applied to Uniformed Service member retired pay. A difference in copayments remains between those who joined a Uniformed Service before January 1, 2018 (Group A), and those who joined on or after that date (Group B).

The retiree COLA was announced October 2022. The COLA increase was 8.7 percent. Beneficiary out-of-pocket expenses impacted by the 2023 COLA will be posted to the tricare.mil/changes web page before TRICARE Open Season starts November 14, 2022.

Premiums for Calendar Year 2023
TRICARE Young Adult (TYA) | TRICARE Reserve Select (TRS) | TRICARE Retired Reserve (TRR) | Continued Health Care Benefit Program (CHCBP)
TYA Prime Individual $570.00 monthly | TRS Member-Only $48.47 monthly | TRR Member-Only $549.35 monthly | CHCBP Single $1,654.00 quarterly
TYA Select Individual $291.00 monthly | TRS Member & Family $239.69 monthly | TRR Member & Family $1,320.76 monthly | CHCBP Family $4,134.00 quarterly

Pharmacy Out-of-Pocket Expenses for CY 2023

TRICARE Pharmacy copayments continue January 1, 2023 unchanged from 2022:

Pharmacy Copayments for Calendar Year 2023 *
Year | Retail network generic formulary 30-day supply | Retail network brand-name formulary 30-day supply | Mail order generic formulary 90-day supply | Mail order brand-name formulary 90-day supply | Mail order & retail network non-formulary 90-day supply
2023 | $14 | $38 | $12 | $34 | $68 **
* Active Duty Service Members enjoy a $0 copay for covered drugs at any pharmacy.
** For all beneficiaries except active duty service members, select brand-name maintenance medications (taken for long-term conditions) may only be filled twice at retail and then must be filled via home delivery or military pharmacy.

Dated: October 24, 2022.
Aaron T. Siegel,
Alternate OSD Federal Register Liaison Officer, Department of Defense.

[FR Doc. 2022-23465 Filed 10-27-22; 8:45 am]

BILLING CODE 5001-06-P